DEPARTMENT OF HEALTH AND HUMAN SERVICES

National Institutes of Health

National Institute of Allergy and Infectious Diseases; Notice of Closed Meeting

Pursuant to section 10(d) of the Federal Advisory Committee Act, as amended (5 U.S.C. Appendix 2), notice is hereby given of a meeting of the Board of Scientific Counselors, NIAID.

The meeting will be closed to the public as indicated below in accordance with the provisions set forth in section 552b(c)(6), Title 5 U.S.C., as amended for the review, discussion, and evaluation of individual intramural programs and projects conducted by the National Institute of Allergy and Infectious Diseases, including consideration of personnel qualifications and performance, and the competence of individual investigators, the disclosure of which would constitute a clearly unwarranted invasion of personal privacy.

Name of Committee: Board of Scientific Counselors, NIAID.

Date: June 10-12, 2002.

Time: 1 am to 3 pm.

Agenda: To review and evaluate personal qualifications and performance, and competence of individual investigators.

Place: Rocky Mountain Laboratories, Building 6, Conference Room 349, Hamilton, MT.

Contact Person: Thomas J. Kindt, PhD, Director, Division of Intramural Research, National Intramural Research, National Inst. of Allergy & Infectious Diseases, Building 10, Room 4A31, Bethesda, MD 20892, 301-496-3006, tk9c@nih.gov.

(Catalog of Federal Domestic Assistance Program Nos. 93.855, Allergy, Immunology, and Transplantation Research; 93.856, Microbilogy and Infectious Diseases Research, National Institutes of Health, HHS)
Dated: February 26, 2002.
Laverne Y. Stringfield,
Director, Office of Federal Advisory Committee Policy.

[FR Doc. 02-5023 Filed 3-1-02; 8:45 am]

BILLING CODE 4140-01-M